DEPARTMENT OF TRANSPORTATION

Federal Motor Carrier Safety Administration

[Docket No. FMCSA-2007-27333]

Qualification of Drivers; Exemption Applications; Vision

AGENCY: Federal Motor Carrier Safety Administration (FMCSA), DOT.

ACTION: Notice of applications for exemptions; request for comments.

SUMMARY: FMCSA announces receipt of applications from 21 individuals for exemptions from the vision requirement in the Federal Motor Carrier Safety Regulations. If granted, the exemptions would enable these individuals to qualify as drivers of commercial motor vehicles (CMVs) in interstate commerce without meeting the Federal vision standard.

DATES: Comments must be received on or before April 16, 2007.

ADDRESSES: You may submit comments identified by Department of Transportation (DOT) Docket Management System (DMS) Docket Number FMCSA-2006-27333 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@dot.gov, FMCSA, Department of Transportation, 400 Seventh Street, SW., Room 8301, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 21 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Rex A. Botsford

Mr. Botsford, age 60, has had amblyopia in his right eye since childhood. The best corrected visual acuity in his right eye is 20/100 and in the left, 20/25. Following an examination in 2006, his optometrist noted, “In my medical opinion, Mr. Botsford has sufficient vision to perform the driving tasks required to operate a commercial vehicle.” Mr. Botsford reported that he has driven straight trucks for 2 years, accumulating 20,000 miles, and tractor-trailer combinations for 35 years, accumulating 4.2 million miles. He holds a Class A Commercial Driver's License (CDL) from Michigan. His driving record for the last 3 years shows no crashes and no convictions for moving violations in a CMV.

Robert A. Casson

Mr. Casson, 30, has had amblyopia in his right eye since childhood. The visual acuity in his right eye is 20/200 and in the left, 20/20. Following an examination in 2007, his optometrist noted, “In my opinion, Mr. Casson does have sufficient vision to perform the task of driving a commercial vehicle.” Mr. Casson reported that he has driven straight trucks for 6 months, accumulating 12,000 miles, tractor-trailer combinations for 2 months, accumulating 5,000 miles, and buses for 5½ years, accumulating 110,000 miles. He holds a Class A CDL from Kentucky. His driving record for the last 3 years shows no crashes and no convictions for moving violations in a CMV.

Gregory L. Cooper

Mr. Cooper, 46, has had amblyopia in his right eye since childhood. The visual acuity in his right eye is 20/400 and in the left, 20/20. Following an examination in 2007, his ophthalmologist noted, “He has excellent vision to perform his driving tasks required to operate a commercial vehicle.” Mr. Cooper reported that he has driven straight trucks for 7 years, accumulating 227,500 miles. He holds a Class A CDL from Pennsylvania. His driving record for the last 3 years shows no crashes and no convictions for moving violations in a CMV.

Kenneth D. Craig

Mr. Craig, 46, has a prosthetic left eye due to a traumatic injury sustained in 2001. The visual acuity in his right eye is 20/20. Following an examination in 2006, his optometrist noted, “Mr. Craig has sufficient vision to perform the driving tasks required to operate a commercial vehicle.” Mr. Craig reported that he has driven tractor-trailer combinations for 20 years, accumulating 2.5 million miles. He holds a Class A CDL from Virginia. His driving record for the last 3 years shows no crashes and no convictions for moving violations in a CMV.

Thomas H. Davenport, Sr.

Mr. Davenport, 48, has had macular scarring in his right eye since birth due to histoplasmosis syndrome. The best corrected visual acuity in his right eye is count-finger vision and in the left, 20/25. Following an examination in 2007, his ophthalmologist noted, “It is my medical opinion that Mr. Davenport has sufficient vision to perform the driving tasks required to operate a commercial vehicle.” Mr. Davenport reported that he has driven straight trucks for 11 years, accumulating 572,000 miles, and tractor-trailer combinations for 2 years, accumulating 120,000 miles. He holds a Class A CDL from Maryland. His driving record for the last 3 years shows no crashes and no convictions for moving violations in a CMV.

Christopher A. Deadman

Mr. Deadman, 34, has had amblyopia in his right eye since childhood. The best corrected visual acuity in his right eye is 20/400 and in the left, 20/20. Following an examination in 2006, his optometrist noted, “In my medical opinion, Mr. Deadman has sufficient vision to perform the driving tasks required to operate a commercial vehicle.” Mr. Deadman reported that he has driven tractor-trailer combinations for 12 years, accumulating 588,000 miles. He holds a Class A CDL from Michigan. His driving record for the last 3 years shows one crash and no convictions for moving violations in a CMV.

Heather M.B. Gordon

Ms. Gordon, 35, has reduced peripheral vision in her right eye due to an optic nerve injury sustained as a child. The best corrected visual acuity in her right eye is 20/30 and in the left, 20/20. The horizontal field of vision in her right eye is 55 degrees and in the left, 110 degrees. Following an examination in 2006, her ophthalmologist noted, “In my medical opinion, Ms. Heather Gordon has sufficient field of vision to operate a commercial vehicle.” Ms. Gordon reported that she has driven straight trucks for 3 years, accumulating 60,000 miles. She holds a Class A CDL from New Hampshire. Her driving record for the last 3 years shows no crashes and no convictions for moving violations in a CMV.

William K. Gullett

Mr. Gullett, 44, has had amblyopia in his left eye since birth. The best corrected visual acuity in his right eye is 20/20 and in the left, 20/60. Following an examination in 2006, his optometrist noted, “In my medical opinion, Mr. Gullett has sufficient vision to perform the driving tasks required to operate a commercial vehicle.” Mr. Gullett reported that he has driven straight trucks for 3 years, accumulating 156,000 miles. He holds a Class B CDL from Kentucky. His driving record for the last 3 years shows no crashes and no convictions for moving violations in a CMV.

George Harris

Mr. Harris, 63, has had amblyopia in his left eye since childhood. The visual acuity in his right eye is 20/20 and in the left, 20/400. Following an examination in 2006, his optometrist noted, “Mr. Harris has sufficient vision to perform the driving tasks required to operate a commercial motor vehicle.” Mr. Gullett reported that he has driven straight trucks for 18 years, accumulating 270,000 miles. He holds a Class A CDL from Kansas. His driving record for the last 3 years shows no crashes and no convictions for moving violations in a CMV.

Kenneth C. Keil

Mr. Keil, 50, has severe iris and retinal damage in his right eye due to a traumatic injury sustained in 1982. The best corrected visual acuity in his right eye is hand-motion vision and in the left, 20/20. Following an examination in 2006, his optometrist noted, “I would like to state clearly that in my medical opinion, Ken Keil has sufficient vision to operate a commercial vehicle and I would recommend that he be allowed to do so without limits.” Mr. Keil reported that he has driven straight trucks for 27 years, accumulating 129,600 miles. He holds a Class C operator's license from California. His driving record for the last 3 years shows no crashes and no convictions for moving violations in a CMV.

Robert K. Kimbel

Mr. Kimbel, 53, has complete loss of vision in his right eye due to a retinal detachment sustained as a child. The visual acuity in his left eye is 20/20. Following an examination in 2006, his optometrist noted, “He has a full vision field in the left eye which should give him the vision necessary to drive a commercial vehicle.” Mr. Kimbel reported that he has driven straight trucks for 35 years, accumulating 1.8 million miles. He holds a chauffeur license from Michigan. His driving record for the last 3 years shows no crashes and no convictions for moving violations in a CMV.

Melvin A. Kleman

Mr. Kleman, 52, has had amblyopia in his right eye since childhood. The best corrected visual acuity in his right eye is 20/60 and in the left, 20/20. Following an examination in 2007, his optometrist noted, “In my opinion, Mel has sufficient vision to perform the driving tasks required to operate a commercial vehicle.” Mr. Kleman reported that he has driven straight trucks for 17 years, accumulating 510,000 miles, and tractor-trailer combinations for 34 years, accumulating 3.7 million miles. He holds a Class A CDL from Ohio. His driving record for the last 3 years shows no crashes and no convictions for moving violations in a CMV.

Roosevelt Lawson, Jr.

Mr. Lawson, 43, has complete loss of vision in his right eye due to a traumatic injury sustained as a child. The visual acuity in his left eye is 20/20. Following an examination in 2006, his optometrist noted, “In my medical opinion, Mr. Lawson has sufficient vision to perform the driving tasks required to operate a commercial vehicle.” Mr. Lawson reported that he has driven straight trucks for 15 years, accumulating 585,000 miles. He holds a Class D operator's license from Alabama. His driving record for the last 3 years shows no crashes and no convictions for moving violations in a CMV.

David H. Luckadoo

Mr. Luckadoo, 58, has loss of vision in his left eye due to a traumatic injury sustained as a child. The visual acuity in his right eye is 20/25 and in the left, light perception. Following an examination in 2006, his optometrist noted, “He has adapted well to his condition and in my opinion has sufficient vision to perform the driving task required to operate a commercial vehicle.” Mr. Luckadoo reported that he has driven straight trucks for 10 years, accumulating 500,000 miles. He holds an operator's license from Indiana, which allows him to operate a vehicle with a gross weight of 16,000 pounds or less. His driving record for the last 3 years shows no crashes and no convictions for moving violations in a CMV.

Emanuel N. Malone

Mr. Malone, 47, has loss of vision in his left eye due to a traumatic injury sustained as a child. The best corrected visual acuity in his right eye is 20/25 and in the left, 20/400. Following an examination in 2006, his optometrist noted, “I believe that Mr. Malone has sufficient vision to perform the driving tasks required to operate a commercial vehicle.” Mr. Malone reported that he has driven straight trucks for 14 years, accumulating 1.4 million miles, and tractor-trailer combinations for 14 years, accumulating 1.2 million miles. He holds a Class A CDL from Virginia. His driving record for the last 3 years shows no crashes and no convictions for moving violations in a CMV.

Roberto E. Martinez

Mr. Martinez, 28, has a prosthetic left eye due to a traumatic injury sustained at age 22. The best corrected visual acuity in his right eye is 20/20. Following an examination in 2006, his optometrist noted, “In my medical opinion, Robert E. Martinez has sufficient vision to perform the driving tasks required to operate a commercial vehicle.” Mr. Martinez reported that he has driven tractor-trailer combinations for 8½ years, accumulating 680,000 miles. He holds a Class A CDL from Washington. His driving record for the last 3 years shows no crashes and one conviction for a moving violation, speeding in a CMV. He exceeded the speed limit by 13 mph.

Richard W. Mullenix

Mr. Mullenix, 52, has complete loss of vision in his right eye due to a traumatic injury sustained as a child. The best corrected visual acuity in his left eye is 20/20. Following an examination in 2006, his optometrist noted, “I do feel he has sufficient vision to perform the driving tasks required to operate a commercial vehicle.” Mr. Mullenix reported that he has driven straight trucks for 9 years, accumulating 225,000 miles, and tractor-trailer combinations for 3 years, accumulating 288,000 miles. He holds a Class A CDL from Missouri. His driving record for the last 3 years shows no crashes and no convictions for moving violations in a CMV.

Steven A. Proctor

Mr. Proctor, 36, has had amblyopia in his right eye since childhood. The best corrected visual acuity in his right eye is 20/70 and in the left, 20/20. Following an examination in 2006, his optometrist noted, “In my medical opinion, Mr. Proctor has sufficient vision to perform the driving tasks to operate a commercial vehicle.” Mr. Proctor reported that he has driven tractor-trailer combinations for 7 years, accumulating 472,500 miles. He holds a Class A CDL from Nevada. His driving record for the last 3 years shows no crashes and no convictions for moving violations in a CMV.

George K. Sizemore

Mr. Sizemore, 26, has a choroidal rupture in his right eye due to a traumatic injury sustained in 1995. The best corrected visual acuity in his right eye is 20/400 and in the left, 20/20. Following an examination in 2006, his optometrist noted, “In my medical opinion, with the excellent visual acuity of the left eye and the satisfactory field of vision with both eyes, Mr. Sizemore has sufficient vision to perform the driving tasks to operate a commercial vehicle.” Mr. Sizemore reported that he has driven tractor-trailer combinations for 5 years, accumulating 300,000 miles. He holds a Class A CDL from North Carolina. His driving record for the last 3 years shows no crashes and no convictions for moving violations in a CMV.

Robert N. Taylor

Mr. Taylor, 61, has complete loss of vision in his right eye due to a traumatic injury sustained in 1969, which resulted in an opacified cornea. The best corrected visual acuity in his left eye is 20/25. Following an examination in 2006, his optometrist noted, “I feel this patient has adequate visual acuity and visual field to operate a commercial vehicle.” Mr. Taylor reported that he has driven straight trucks for 2 years, accumulating 30,000 miles, and tractor-trailer combinations for 30 years, accumulating 3 million miles. He holds a Class A CDL from Oregon. His driving record for the last 3 years shows no crashes and one conviction for a moving violation, speeding in a CMV. He exceeded the speed limit by 15 mph.

Manuel A. Vargas

Mr. Vargas, 39, has loss of vision in his left eye due to a retinal detachment sustained as a child. The best corrected visual acuity in his right eye is 20/20 and in the left, 20/200. Following an examination in 2006, his optometrist noted, “In my professional opinion, Manuel has sufficient vision to perform driving tasks required to operate a commercial vehicle.” Mr. Vargas reported that he has driven straight trucks for 12 years, accumulating 30,000 miles, and tractor-trailer combinations for 12 years, accumulating 60,000 miles. He holds a Class A CDL from Arizona. His driving record for the last 3 years shows no crashes and no convictions for moving violations in a CMV.

Request for Comments

In accordance with 49 U.S.C. 31136(e) and 31315, FMCSA requests public comment from all interested persons on the exemption petitions described in this notice. The Agency will consider all comments received before the close of business April 16, 2007. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: March 12, 2007.
Pamela M. Pelcovits,
Office Director, Policy Plans and Regulations.

[FR Doc. E7-4841 Filed 3-15-07; 8:45 am]

BILLING CODE 4910-EX-P